SMALL BUSINESS ADMINISTRATION

[Disaster Declaration # 13473 and # 13474]

Arkansas Disaster Number AR-00061

AGENCY: U.S. Small Business Administration.

ACTION: Amendment 1.

SUMMARY: This is an amendment of the Presidential declaration of a major disaster for Public Assistance Only for the State of ARKANSAS (FEMA-4100-DR), dated 01/29/2013.

Incident: Severe Winter Storm.

Incident Period: 12/25/2012 through 12/26/2012.

Effective Date: 02/14/2013.

Physical Loan Application Deadline Date: 04/01/2013.

Economic Injury (EIDL) Loan Application Deadline Date: 10/29/2013.

ADDRESSES: Submit completed loan applications to: U.S. Small Business Administration, Processing And Disbursement Center, 14925 Kingsport Road, Fort Worth, TX 76155.

FOR FURTHER INFORMATION CONTACT: A. Escobar, Office of Disaster Assistance, U.S. Small Business Administration, 409 3rd Street SW., Suite 6050, Washington, DC 20416.

SUPPLEMENTARY INFORMATION: The notice of the President's major disaster declaration for Private Non-Profit organizations in the State of ARKANSAS, dated 01/29/2013, is hereby amended to include the following areas as adversely affected by the disaster.

Primary Counties: Clark.

All other information in the original declaration remains unchanged.

(Catalog of Federal Domestic Assistance Numbers 59002 and 59008)

James E. Rivera,
Associate Administrator for Disaster Assistance.

[FR Doc. 2013-04441 Filed 2-27-13; 8:45 am]

BILLING CODE 8025-01-M